DEPARTMENT OF LABOR

Employment and Training Administration

[NAFTA-5069]

Cooper Bussman, Black Mountain, North Carolina; Notice of Termination of Investigation

Pursuant to Title V of the North American Free Trade Agreement Implementation Act (Pub. L. 103-182) concerning transitional adjustment assistance, hereinafter called NAFTA-TAA and in accordance with section 250(a), subchapter D, chapter 2, title II, of the Trade Act of 1974, as amended (19 U.S.C. 2331), an investigation was initiated on July 11, 2001, in response to a worker petition which was filed on behalf of workers at Cooper Bussman, Black Mountain, North Carolina.

The petitioner has requested that the petition be withdrawn. Consequently further investigation in this case would serve no purpose, and the investigation has been terminated.

Signed in Washington, DC this 30th day of July, 2001.
Linda G. Poole,
Certifying Officer, Division of Trade Adjustment Assistance.

[FR Doc. 01-20467 Filed 8-14-01; 8:45 am]

BILLING CODE 4510-30-M